DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by January 20, 2004.

Title, Form, and OMB Number: Air Force Academy Candidate Personal Data Record; OMB Number 0701-0064.

Type of Request: Extension of a currently approved collection.

Number of Respondents: 8,500.

Responses Per Respondent: 1.

Annual Responses: 8,500.

Average Burden Per Response: 30 minutes.

Annual Burden Hours: 4,250.

Needs and Uses: This information collection is necessary to obtain data on candidate's background and aptitude in determining eligibility and selection to the Air Force Academy.

Affected Public: Individuals or households.

Frequency: On occasion.

Respondent's Obligation: Required to obtain or retain benefits.

OMB Desk Officer: Mr. William Nickerson—Written comments and recommendations on the proposed information collection should be sent to Mr. Nickerson at the Office of Management and Budget, Desk Officer for DoD, Room 10236, New Executive Office Building, Washington, DC 20503.

DOD Clearance Officer: Ms. Jacqueline Davis—Written requests for copies of the information collection proposal should be sent to Ms. Davis, WHS/DIOR, 1215 Jefferson Davis Highway, Suite 1204, Arlington, VA 22202-4302.

Dated: November 26, 2003.
Patricia L. Toppings,
Alternate OSD Federal Register Liaison Officer, Department of Defense.

[FR Doc. 03-31283 Filed 12-18-03; 8:45 am]

BILLING CODE 5001-06-M